CONSUMER PRODUCT SAFETY COMMISSION

16 CFR Part Chapter II

[CPSC Docket No. CPSC-2013-0028]

Corded Window Coverings: Notice of Extension of Comment Period

AGENCY: U.S. Consumer Product Safety Commission.

ACTION: Advance notice of proposed rulemaking; extension of comment period.

SUMMARY: The Consumer Product Safety Commission (Commission or CPSC) published an advance notice of proposed rulemaking (ANPR) in the Federal Register on January 16, 2015, concerning corded window coverings. The ANPR invited the public to submit written comments; the comment period as set in the ANPR ended on Tuesday, March 17, 2015. In response to a request for extension, the Commission is extending the comment period to Monday, June 1, 2015.

DATES: The comment period for the ANPR published on January 16, 2015 (80 FR 2327), is extended. Comments must be received by Monday, June 1, 2015.

ADDRESSES: You may submit comments, identified by Docket No. CPSC-2013-0028, by any of the following methods:

Electronic Submissions: Submit electronic comments to the Federal eRulemaking Portal at: http://www.regulations.gov. Follow the instructions for submitting comments. The Commission does not accept comments submitted by electronic mail (email), except through www.regulations.gov. The Commission encourages you to submit electronic comments by using the Federal eRulemaking Portal, as described above.

Written Submissions: Submit written submissions by mail/hand delivery/courier to: Office of the Secretary, Consumer Product Safety Commission, Room 820, 4330 East West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2013-0028, into the “Search” box, and follow the prompts.

FOR FURTHER INFORMATION CONTACT: Rana Balci-Sinha, Office of Hazard Identification and Reduction, 5 Research Place, Rockville, MD 20850, telephone 301-987-2584, email windowcoveringtechnologies@cpsc.gov.

SUPPLEMENTARY INFORMATION: On October 8, 2014, the Commission granted a petition to initiate a rulemaking to develop a mandatory safety standard for window coverings. The petition sought to prohibit window covering cords when a feasible cordless alternative exists. The petition requested that all window covering cords be made inaccessible by using passive guarding devices when a feasible cordless alternative does not exist. On January 16, 2015, the Commission published an advance notice of proposed rulemaking (ANPR) initiating rulemaking and seeking information and comment on regulatory options for a mandatory rule to address the risk of strangulation to young children on window covering cords. 80 FR 2327. The comment period on the ANPR was scheduled to end on March 17, 2015.

In a letter dated February 2, 2015, the Window Covering Manufacturers Association (WCMA) requested a 75-day extension of the comment period to complete multiple studies that WCMA commissioned. WCMA states that the request is “based on the need for sufficient opportunity to develop and present a more factual record for CPSC's consideration to permit a well-informed analysis before considering whether the agency can move to the next stage of promulgating such a significant rule.”

The Commission has considered WCMA's request. The Commission will grant WCMA's request to extend the comment period for the ANPR until June 1, 2015. The extension will allow WCMA and any other party additional time to complete studies related to questions asked in the ANPR.

Alberta E. Mills,
Acting Secretary, Consumer Product Safety Commission.

[FR Doc. 2015-06354 Filed 3-20-15; 8:45 am]

BILLING CODE 6355-01-P